DEPARTMENT OF ENERGY

Federal Energy Regulatory Commission

[Docket No. CP07-405-000]

Texas Gas Transmission, LLC; Notice of Availability of the Environmental Assement for the Proposed Phase 3 Storage Expansion Project

November 13, 2007.

The staff of the Federal Energy Regulatory Commission (FERC or Commission) has prepared an environmental assessment (EA) on the natural gas pipeline facilities proposed by Texas Gas Transmission, LLC (Texas Gas) in the above-referenced docket. Texas Gas proposes to increase the storage capacity of its existing Midland Storage Field by constructing facilities in Hanson and Muhlenberg Counties, Kentucky.

The EA was prepared to satisfy the requirements of the National Environmental Policy Act of 1969. The staff concludes that approval of the proposed project, with appropriate mitigating measures, would not constitute a major federal action significantly affecting the quality of the human environment.

The EA assesses the potential environmental effects of the construction and operation of the proposed Phase 3 Storage Expansion Project, which includes the following wells, pipeline facilities, and expansion/modifications of existing compressor stations:

Midland Gas Storage Field

• Seven new injection/withdrawal wells;

• Six new well pads;

• 80-foot-tall radio tower on an 8-foot by 8-foot concrete pad and 6-foot by 6-foot shelter;

Pipeline Facilities

• 10.5 miles of 30-inch-diameter pipeline from Texas Gas' Hanson Compressor Station to its Midland III Compressor Station;

• Construct 2,900 feet of 16-inch-diameter pipeline extending Texas Gas existing E-9 Lateral pipeline;

• Construct 8 well laterals ranging from 8 to 12 inches in diameter and 450 to 3,000 feet in length;

Midland III Compressor Station

• A new turbine/compressor building;

• A new 5,488 horsepower turbine-driven compressor, including ancillary equipment;

• Control system modifications to allow two existing 1,250-horsepower electric-driven compressors to operate at 1,500-horsepower;

• Retirement of two 2,000-horsepower reciprocating compressor units

• Piping modifications and appurtenant facilities;

Slaughters Compressor Station

• Modification of the existing 12,090-horsepower turbine-driven compressor for a new suction and discharge pressure; The purpose of the proposed Phase 3 Storage Expansion Project is to expand the daily withdrawal and seasonal storage capability of the Midland Gas Storage Field located in Muhlenberg County, Kentucky.

The EA has been placed in the public files of the FERC. A limited number of copies of the EA are available for distribution and public inspection at: Federal Energy Regulatory Commission, Public Reference Room, 888 First Street, NE., Room 2A, Washington, DC 20426.

Copies of the EA have been mailed to pertinent agencies, libraries and newspapers, parties to this proceeding, and those who have expressed an interest in this project by returning the July 23, 2007, Notice of Intent to Prepare an Environmental Assessment for the Proposed Texas Gas Storage Expansion Project Phase 3 and Request for Comments on Environmental Issues mailer, as directed.

Any person wishing to comment on the EA may do so. To ensure consideration prior to a Commission decision on the proposal, it is important that we receive your comments before the date specified below. Please carefully follow these instructions to ensure that your comments are received in time and properly recorded:

• Send an original and two copies of your comments to: Kimberly D. Bose, Secretary, Federal Energy Regulatory Commission, 888 First Street, NE., Room 1A, Washington, DC 20426;

• Label one copy of the comments for the attention of the Gas Branch 1, PJ-11.1;

• Reference Docket No. CP07-405-000; and

• Mail your comments so that they will be received in Washington, DC on or before December 14, 2007.

The Commission strongly encourages electronic filing of any comments, interventions, or protests to this proceeding. See 18 CFR 385.2001(a)(1)(iii) and the instructions of the Commission's Web site at http://www.ferc.gov under the “e-Filing” link and the link to the User's guide. Before you can file comments you will need to create a free account, which can be created by clicking on “Login to File” and then “New User Account.” You will be asked to select the type of filing you are making. This filing is considered a “Comment on Filing.”

Comments will be considered by the Commission but will not serve to make the commentor a party to the proceeding. Any person seeking to become a party to the proceeding must file a motion to intervene pursuant to Rule 214 of the Commission's Rules of Practice and Procedures (18 CFR 385.214). Only intervenors have the right to seek rehearing of the Commission's decision. Anyone may intervene in this proceeding based on this EA. You must file your request to intervene as specified above.¹ You do not need intervenor status to have your comments considered.

¹ Interventions may also be filed electronically via the Internet in lieu of paper. See the previous discussion of filing comments electronically.

Additional information about the project is available from the Commission's Office of External Affairs, at 1-866-208-FERC or on the FERC Internet Web site (http://www.ferc.gov) using the eLibrary link. Click on the eLibrary link, click on “General Search” and enter the docket number excluding the last three digits in the Docket Number field (i.e., CP07-405). Be sure you have selected an appropriate date range. For assistance, please contact FERC Online Support at FERCOnlineSupport@ferc.gov or toll free at 1-866-208-3676, or for TTY, contact (202) 502-8659. The eLibrary link on the FERC Internet website also provides access to the texts of formal documents issued by the Commission, such as orders, notices, and rulemakings.

In addition, the Commission now offers a free service called eSubscription which allows you to keep track of all formal issuances and submittals in specific dockets. This can reduce the amount of time you spend researching proceedings by automatically providing you with notifications of these filings, document summaries and direct links to the documents. Go to the eSubscription link on the FERC Internet website.

Kimberly D. Bose,
Secretary.

[FR Doc. E7-22624 Filed 11-19-07; 8:45 am]

BILLING CODE 6717-01-P